DEPARTMENT OF AGRICULTURE

Forest Service

Becker Vegetation Management Project, Boise National Forest, Idaho

AGENCY: Forest Service, USDA.

ACTION: Notice of Intent to Prepare Environmental Impact Statement.

SUMMARY: The Boise Ranger District of the Boise National Forest will prepare an environmental impact statement (EIS) for a resource management project in the Crooked River Watershed. The 14,500 acre project area is located approximately 18 miles northeast of Idaho City, Idaho, and about 48 miles northeast of Boise, Idaho.

The agency invites written comments and suggestions on the scope of the analysis. The agency also hereby gives notice of the environmental analysis and decision-making process that will occur on the proposal so interested and affected people are aware of how they may participate and contribute to the final decision. At this time no public meetings to discuss the project are planned.

Proposed Action: The primary purposes of the project are: (1) Manage the stand density, structure, and species composition to provide conditions that are more resistant to insect and disease infestations and uncharacteristic wildfire. Move towards the Forest Plan vegetation desired conditions, and maintain or increase the large tree component. (2) Modify stand density, structure, and species composition, to restore suitable habitat for white-headed woodpecker and flammulated owls. (3) Provide commercial timber that will contribute to the annual harvest of expected timber volume on the Boise National Forest while moving towards attaining the Forest Plan desired vegetative conditions. (4) Reduce tree stocking & brush within plantations in order to maintain good tree growth and vigor, to reduce fire hazard by removal of developing ladder fuels, and to reduce future susceptibility to insects and disease infestations. (5) Improve water quality and aquatic habitat by reducing long term sedimentation caused by existing roads.

The Proposed Action would commercial harvest trees, and in some areas use a combination of commercial harvest thinning and pre-commercial thinning from approximately 1,970 acres in the 14,500 acre project area. Regeneration harvest would occur on approximately 1,100 acres where insect and disease infestation is particularly severe. In addition approximately 4,700 acres would have only pre-commercial removal of small diameter trees (including 1,688 acres of plantations). Within these areas of mechanical vegetation treatment, aspen clones would be managed by removing and reducing conifer competition in the immediate vicinity. Brush removal would occur within approximately 450 additional acres of conifer plantations. An estimated 14.0 MMBF of timber would be harvested using ground-based yarding systems.

Prescribed burning would occur within approximately 12,000 acres of project area to breakup the horizontal and vertical fuel continuity to reduce the chance of uncharacteristic stand replacement fires. Approximately 1,550 acres would be a natural fuels burn area where no mechanical treatment would occur, these acres would include target areas and conditional or incidental burn areas. A burn block of approximately 10,620 acres would target mechanically treated areas (commercial and pre-commercial thinning) and also include conditional or incidental burn areas.

Approximately 15 acres would be targeted for native plant restoration.

Whitebark pine restoration and enhancement is proposed in a 40 acre area around the summit of Pilot Peak.

The proposed action would decommission and remove these from the transportation system approximately 22 miles of currently authorized roads. Approximately 3.7 miles of temporary road would be constructed, and approximately 0.8 miles of new road would be constructed. Approximately 6.5 miles of road currently not authorized would be improved by construction and added to the transportation system. Approximately 15.6 miles of road would be closed (these would remain as authorized roads) that are currently open, and 10.9 miles of closed road would be opened.

Three culverts that are currently posing a fish migration barrier will be replaced and one would be removed as part of road decommissioning.

Possible Alternatives to the Proposed Action: One alternative to the Proposed Action that will be considered is a no action alternative. Other alternatives will likely be developed as issues are identified and information received.

Decisions to be Made: The Boise National Forest Supervisor will decide the following: What amount and distribution of commercial tree harvest and pre-commercial tree thinning or removal should be implemented to achieve the project objectives? What amount of prescribed fire should be implemented to achieve the project objectives? What amount of plantation thinning or brush removal should be implemented to achieve the project objectives? Which roads should be adopted as part of the forest-wide minimum transporation system? What existing roads are needed for long term management of the area? What additional roads, if any, are needed to implement the action? What roads are not needed and should be decommissioned or obliterated? What roads currently open should be closed? What culverts that are currently functioning as fish migration barriers should be replaced? Should opportunities for aspen enhancement and whitebark pine restoration be implemented as part of the planned actions? Should opportunities for native plant restoration be implemented?

DATES: Comments concerning the proposed project and analysis are encouraged and should be postmarked or received within 30 days following publication of this announcement in the Federal Register.

ADDRESSES: Comments should be addressed to the Boise National Forest, ATTN: Daniel Schlender, 1249 South Vinnell Way, Suite 200, Boise, ID 83709 or sent electronically to comments-intermtn-boise-idaho-city@fs.fed.us. Electronic comments must be submitted in plain text or another format compatible with Microsoft Word. Comments received in response to this request will be available for public inspection and will be released in their entirety if requested pursuant to the Freedom of Information Act.

FOR FURTHER INFORMATION CONTACT: Further information can be obtained from Daniel Schlender at the address mentioned above or by calling (208) 373-4245.

Schedule: Draft Environmental Impact Statement (DEIS), July 2007. Final Environmental Impact Statement (FEIS), October 2007.

SUPPLEMENTARY INFORMATION: The entire project area lies within Management Area 7 (North Fork Boise River), discussed on pages III-166 through III-177 in the 2003 Boise National Land and Resource Management Plan. The project area occurs within Management Prescription Category 5.2 (Commodity Production Emphasis within Forested Landscapes).

The comment period on the DEIS will be 45 days from the date the Environmental Protection Agency publishes the notice of availability in the Federal Register.

The Forest Service believes, at this early stage, it is important to give reviewers notice of several court rulings related to public participation in the environmental review process. First, reviewers of the DEIS must structure their participation in the environmental review of the proposal so that it is meaningful and alerts an agency to the reviewer's position and contention. Vermont Yankee Nuclear Power Corp. v. NRDC, 435 U.S. 519, 553 (1978). Also, environmental objections that could be raised at the DEIS stage but are raised until after completion of the FEIS may be waived or dismissed by the courts. City of Angoon v. Hodel, 803 F. 2d 1016, 1002 (9th Cir., 1986) and Wisconsin Heritages, Inc. v. Harris, 490 F. Supp. 1334, 1338 (E.D. Wis. 1980). Because of these court rulings, it is very important that those interested in this proposed action participate by the close of the DEIS 45-day comment period so that substantive comments and objections are made available to the Forest Service at a time when it can meaningfully consider them and respond to them in the FEIS.

To assist the Forest Service in identifying and considering issues and concerns on the proposed action, comments on the DEIS should be as specific as possible. It is also helpful if comments refer to specific pages or chapters of the draft statement. Reviewers may wish to refer to the Council on Environmental Quality Regulations for implementing the procedural provisions of the National Environmental Policy Act at 40 CFR 1503.3 in addressing these points.

Responsible Official: Richard A. Smith, Forest Supervisor, Boise National Forest, 1249 South Vinnell Way, Suite 200, Boise, ID 83709.

Dated: February 1, 2007.
Frank V. Guzman,
Deputy Forest Supervisor.

[FR Doc. 07-602 Filed 2-15-07; 8:45 am]

BILLING CODE 3410-11-M